ENVIRONMENTAL PROTECTION AGENCY

40 CFR Part 300

[FRL-7799-3]

National Oil and Hazardous Substance Pollution Contingency Plan National Priorities List

AGENCY: Environmental Protection Agency.

ACTION: Direct Final Notice of Deletion of the San Fernando Valley Basin Area 3, Verdugo Study Area Superfund Site from the National Priorities List (NPL).

SUMMARY: The Environmental Protection Agency (EPA) Region IX, is publishing this Direct Final Notice of Deletion for the San Fernando Valley Basin Area 3, Verdugo Study Area Superfund Site (Site). The Site is in the eastern portion of the San Fernando Valley Basin in Los Angeles, California.

The NPL, promulgated pursuant to section 105 of the Comprehensive Environmental Response, Compensation, and Liability Act (CERCLA) of 1980, as amended, is Appendix B of 40 CFR part 300, which is the National Oil and Hazardous Substances Pollution Contingency Plan (NCP). The NCP sets criteria that must be met to delete a site from the NPL. EPA, in consultation with the State of California, has determined that this Site meets the following criterion for site deletion: “The remedial investigation has shown that the release poses no significant threat to public health or the environment and, therefore, taking of remedial measures is not appropriate.” This deletion does not preclude future actions under Superfund, based on new information or conditions.

DATES: Because this deletion is considered to be noncontroversial, to streamline the deletion process EPA is publishing the Notice of Intent to Delete in the Federal Register concurrent with this Direct Final Notice of Deletion. This Direct Final Notice of Deletion will be effective October 12, 2004 without any further EPA action, unless EPA receives adverse comment(s) on the Notice of Intent to Delete by September 9, 2004. If adverse comment(s) are received, EPA will publish a timely withdrawal of the Direct Final Notice of Deletion before it takes effect. EPA will, as appropriate, prepare a response to comments and continue with the deletion process on the basis of the notice of intent to delete and the comments already received. There will be no additional opportunity to comment.

ADDRESSES: Comments may be mailed to Jackie Lane, Community Involvement Coordinator, U.S. EPA Region IX (SFD-3), 75 Hawthorne Street, San Francisco, California 94105, (415) 972-3236.

FOR FURTHER INFORMATION CONTACT: Charnjit Bhullar, Remedial Project Manager, U.S. EPA Region IX (SFD 7-1), 75 Hawthorne Street, San Francisco, California 94105, (415) 972-3960.

Information Repositories: Information supporting the deletion is available in the Deletion Docket at the EPA Region IX Records Center and detailed Site information is available at the Information Repositories listed below:

U.S. EPA Superfund Record Center, 95 Hawthorne Street, San Francisco, California 94105-3901, (415) 536-2000, La Canada Library, 4545 Oakwood Ave., La Canada, CA 91011, (818) 952-0603.

Los Angeles Department of Water and Powers, 111 North Hope Street, Rm. 516, Los Angeles, CA 90012, (213) 367-1995.

Glendale Public Library, 222 East Harvard Street, Glendale, CA 91205, (818) 548-2021.

SUPPLEMENTARY INFORMATION:

Table of Contents

I. Introduction

II. NPL Deletion Criteria

III. Deletion Procedures

IV. Basis for Site Deletion

V. Deletion Action

I. Introduction

EPA Region IX is publishing this Direct Final Notice of Deletion from the NPL for the San Fernando Valley Basin Area 3, Verdugo Study Area Superfund Site. EPA identifies sites that appear to present a significant risk to public health or the environment and maintains the NPL as the list of those sites. As described in § 300.425(e)(3) of the NCP, sites deleted from the NPL remain eligible for remedial actions if conditions at a deleted site or new information warrant such action.

Section II of this document explains the criteria for deleting sites from the NPL. Section III discusses procedures that EPA is using for this action. Section IV discusses the San Fernando Valley Basin Area 3, Verdugo Study Area Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA must determine, in consultation with the State, that one of the following criteria have been met:

(1) Responsible parties or other parties have implemented all appropriate response actions required;

(2) All appropriate Fund-financed (Hazardous Substance Superfund Response Trust Fund) response under CERCLA has been implemented, and no further response action by responsible parties is appropriate; or

(3) The remedial investigation has shown that the release poses no significant threat to public health or the environment and, therefore, taking of remedial measures is not appropriate.

As a No Action decision was made for this Site, a Five-Year Review is not required under CERCLA section 121(c). However, EPA may decide to conduct a discretionary review to confirm that the No Action decision remains appropriate, in the future. Whenever there is a significant release from a site deleted from the NPL, the deleted site may be restored to the NPL without application of the hazard ranking system.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should new information or conditions warrant such actions.

III. Deletion Procedures

The following procedures were followed for deletion of this Site:

(1) The EPA consulted with State of California, Department of Toxic Substances Control (DTSC) on the deletion of this Site from the NPL, prior to developing the Direct Final Notice of Deletion. EPA also provided notices to the California Regional Water Quality Control Board (RWQCB), and Department of Health Services (DHS);

(2) The State of California, DTSC and RWQCB have concurred with deletion of the Site from the NPL;

(3) Concurrently with the publication of this Direct Final Notice of Deletion, a Notice of Intent to Delete is being published today in the Proposed Rules section of the Federal Register and in a major local newspaper of general circulation near the Site. The newspaper notice announces the 30-day public comment period for the Notice of Intent to Delete the Site from the NPL. The Notice of Intent to Delete is also being distributed to appropriate Federal, State, and local government officials and other interested parties; and

(4) The EPA placed copies of documents supporting the deletion in the Deletion Docket and the Site Information Repositories identified above.

IV. Basis for Site Deletion

The following information provides EPA's basis for deleting the Site from the NPL:

Site Location

The Verdugo Study Area comprises approximately 2,000 of the 4,400 acre Verdugo Basin, which is situated in the eastern portion of the San Fernando Valley Basin (SFVB), Los Angeles, California.

Site History

The Verdugo Study Area includes the groundwater in and around several water supply well fields in the Verdugo Basin. The Verdugo Basin is bounded on the northeast by the San Gabriel Mountains, on the west by the Verdugo Mountains, and on the southeast by the San Rafael Hills. The Verdugo Basin is generally considered a small tributary of the larger San Fernando Valley groundwater basin. Land use in the Verdugo Basin is primarily residential along the floor of the valley, and open space in the surrounding mountains, with limited commercial and agricultural activity. No significant industrial development is present and the Site does not appear to have any primary sources of groundwater contamination.

In 1986, at the request of the State of California (State), EPA placed four areas within the SFVB on the National Priorities List (NPL) as individual Superfund sites, due to the presence of volatile organic compounds (VOCs) in groundwater at concentrations exceeding State and Federal drinking water standards. The four areas are: North Hollywood (Area 1), containing the North Hollywood Operable Unit (OU) and the Burbank OU; Crystal Springs (Area 2), containing the Glendale North and South OUs; Verdugo Study Area (Area 3); and Pollock (Area 4).

Groundwater is used as a potable supply by two purveyors in the Verdugo Study Area, the City of Glendale and the Crescenta Valley Water District (CVWD). The City of Glendale operates the Glorietta well field in the southern portion of the Site and the CVWD operates the Glenwood and Mills well fields in the north-central part of the Site. Perchloroethene (PCE) in groundwater is the primary contaminant of concern (COC) for the Verdugo Study Area. Historically, the PCE plume in the Verdugo Study Area extended from the Glenwood well field in the north to the Glorietta well field in the south, and appears to flow in the direction of groundwater. The geometry of the Verdugo Basin is such that it funnels flow from the broader northern area to the more narrow southern area. The maximum historic concentration of PCE from sampling efforts in 1982 was 52 parts per billion (ppb) in the northern portion of the Site, but by 2002 the maximum level was below the maximum contaminant level (MCL) at 2.5 ppb PCE in the southern end of the Site. Based on consistently decreasing levels of contamination over time to below MCLs and risks falling within the EPA risk range, EPA selected the no action remedy for this site in a Record of Decision, signed on February 24, 2004.

Remedial Investigation and Feasibility Study (RI/FS)

In 1981, prior to the Site being listed on the NPL, the Los Angeles Department of Water and Power (LADWP) began a 2-year study to assess groundwater contamination in the SFVB, including wells located in the Glenwood, Mills and Glorietta well fields in the Verdugo Study Area. More than 600 water supply wells were sampled in the SFVB as part of this program. Additional work included a review of existing hydrogeologic data and industrial site surveys. Results of this work are presented in the Groundwater Quality Management Plan for the San Fernando Valley Basin, and indicate that 45 percent of LADWP supply wells in the eastern SFVB contained trichloroethene (TCE) in excess of the federal MCL and/or PCE in excess of the State action level (LADWP, 1983) of 4 ppb. The State adopted a 5 ppb MCL for PCE in May 1989. However, in the Verdugo Study Area, no TCE above the MCL was detected. PCE was the most prevalent organic contaminant at the Site. The historic high of 52 ppb PCE at the Site was detected during this study, in Glenwood well field production well CVCWD-8.

Pursuant to California Assembly Bill 1803 (AB 1803), wells within the SFVB were sampled in 1983 for VOCs, semivolatile organic compounds (SVOCs), and pesticides/herbicides. Results of the 1983 sampling again revealed concentrations of VOCs above MCLs in several SFVB well fields, with TCE and PCE the two most common contaminants. Again, PCE was the main contaminant detected in the Verdugo Study Area, and was detected in excess of its state action levels in several water supply production wells, although the levels were below the 52 ppb detected in 1982.

After listing the four San Fernando Valley Basin sites on the NPL in 1986, EPA entered into a cooperative agreement to have the LADWP conduct a Remedial Investigation (RI) for the SFVB sites. In 1989, LADWP completed a soil gas sampling and analysis program within the SFVB, designed to better define the limits of shallow groundwater contamination. In the Verdugo Study Area, 73 soil gas samples were obtained and analyzed. Based upon results of soil gas sampling and available data from existing production wells, seven vertical profile borings in the Verdugo Study Area were converted into shallow monitoring wells in 1990.

A baseline risk assessment was conducted in conjunction with the SFVB RI in 1991. This baseline risk assessment was completed on a regional scale and did not specifically focus on the Verdugo Study Area. The risk assessment addressed compounds that exceeded MCLs in the groundwater of the entire eastern portion of the SFVB. Results indicated that the total cancer risk in the eastern SFVB was greater than EPA's acceptable range for ingestion and inhalation. However, in the Verdugo Study Area, the levels of contaminants were significantly lower than the concentration levels used to calculate risk for the entire SFVB. The primary carcinogenic risk drivers for the SFVB were 1,1-DCE, carbon tetrachloride, TCE, PCE, 1,2-DCE and arsenic; of these only PCE was present in the Verdugo Study Area. In October 2003, a screening level human and ecological risk assessment for the Verdugo Study Area indicated risks for the Site within the acceptable risk range.

To focus specifically on the Verdugo Study Area, EPA completed a hydrogeologic site assessment in 1993 (Site Assessment and Monitoring Plan for the Verdugo Basin, Los Angeles County, California, April 17, 1993). This document assisted in evaluating the nature and extent of groundwater contamination in the basin and provided recommendations for ongoing monitoring of groundwater contamination.

Since the completion of the RI in 1992 up through 2002, EPA continued to monitor groundwater quality by sampling monitoring wells in the Verdugo Study Area four times a year as part of the SFVB basinwide monitoring program. Due to the low levels of PCE and low risk, no Feasibility Study was prepared for the Verdugo Study Area. Groundwater sampling results for this Site from the 1980's through 2002 are summarized in the “Final Summary of Groundwater Quality, San Fernando Valley Superfund Site, Area 3 (Verdugo Basin),” dated May 20, 2003, prepared by CH2M Hill for EPA.

Record of Decision Findings

On February 24, 2004, consistent with the Remedy Delegation Report of March 8, 1985, EPA Region IX approved a Record of Decision (ROD) for this Site. The selected remedy was No Action.

Characterization of Risk

The results from groundwater monitoring conducted from the early 1980's through December 2002 indicate that the low levels of VOC contamination at the Site are within EPA's acceptable risk range and meet State and Federal MCLs. No activities using removal authority were conducted at this site.

Site-specific screening-level human health and ecological risk assessments were conducted to support EPA's proposal for no remedial action for the Verdugo Study Area (CH2M HILL, October 2003). Potential risks to human health associated with exposure to chemicals of potential concern in groundwater were found to be within EPA's acceptable risk range. There were no ecological risks found for the compounds present, as no completed exposure pathways exist for eco-receptors.

Five-Year Review

As no remedial action is required at this Site, a Five-Year Review is not required under CERCLA section 121(c). However, EPA may decide to conduct a discretionary review to confirm that the No Action decision remains appropriate.

Community Involvement

Public participation activities including a public meeting at the Verdugo Woodland Elementary School on November 18, 2003 have been satisfied as required in CERCLA section 113(k), 42 U.S.C. 9613(k), and CERCLA section 117, 42 U.S.C. 9617. Documents in the Deletion Docket which EPA relied on for recommendation of the deletion from the NPL are available to the public in the information repositories.

V. Deletion Action

The EPA, with concurrence of the State of California, has determined that based on the Remedial Investigation, the release poses no significant threat to public health or the environment, and, therefore, taking of remedial measures is not appropriate. Therefore, EPA is deleting the Site from the NPL.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923, 3 CFR, 1987 Comp., p. 193.

Dated: July 29, 2004.
Keith Takata,
Acting Regional Administrator, Region IX.

[FR Doc. 04-18142 Filed 8-9-04; 8:45 am]

BILLING CODE 6560-50-P